DEPARTMENT OF COMMERCE

National Oceanic and Atmospheric Administration

[RTID 0648-XD873]

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a two-day virtual meeting of its Standing, Reef Fish, Socioeconomic, and Ecosystem Scientific and Statistical Committees (SSC).

DATES: The meeting will be held Tuesday, May 7, 2024, from 8:30 a.m. to 4 p.m., EDT, and Wednesday, May 8, 2024, from 8:30 a.m. to 3 p.m., EDT.

ADDRESSES: The meeting will take place virtually, via webinar. Registration information will be available on the Council's website by visiting www.gulfcouncil.org and clicking on the “meeting tab”.

Council address: Gulf of Mexico Fishery Management Council, 4107 W Spruce Street, Suite 200, Tampa, FL 33607; telephone: (813) 348-1630.

FOR FURTHER INFORMATION CONTACT: Mr. Ryan Rindone, Lead Fishery Biologist, Gulf of Mexico Fishery Management Council; ryan.rindone@gulfcouncil.org, telephone: (813) 348-1630.

SUPPLEMENTARY INFORMATION:

Tuesday, May 7, 2024; 8:30 a.m.-4 p.m., EDT

The meeting will begin with Introductions and Adoption of Agenda, Scope of Work, review and approval of Minutes and Meeting Summary from the February 2024 SSC meeting.

Following, the SSC will work on developing the Terms of Reference for Gulf of Mexico Red Snapper Benchmark Assessment, review the Southeast Fisheries Science Center (SEFSC) Progress Report from the Marine Recreational Information Program—Fishing Effort Survey (MRIP-FES) Steering Team, receive an update on the RESTORE Project: Projections Model Review, including presentations and background documentation to support SSC discussion. Public comment will be heard at the end of the day.

Wednesday, May 8, 2024; 8:30 a.m.-3 p.m., EDT

The SSC will review the National Academies of Sciences Equity and Environmental Justice Evaluation and the Equity and Environmental Justice Regional plan. The SSC will then review and discuss Alternative Assessment Methods for Gulf Stocks, including presentations and background documentation to support SSC discussion. Lastly, the SSC will receive an overview of the SSC Reorganization and Application Process and will receive public comment at the end of the day before any items under Other Business are discussed.

—Meeting Adjourns

The meeting will be broadcast via webinar. You may register for the webinar by visiting www.gulfcouncil.org and clicking on the SSC meeting on the calendar.

The Agenda is subject to change, and the latest version along with other meeting materials will be posted on www.gulfcouncil.org as they become available.

Although other non-emergency issues not on the agenda may come before the Scientific and Statistical Committees for discussion, in accordance with the Magnuson-Stevens Fishery Conservation and Management Act, those issues may not be the subject of formal action during this meeting. Actions of the Scientific and Statistical Committee will be restricted to those issues specifically identified in the agenda and any issues arising after publication of this notice that require emergency action under Section 305(c) of the Magnuson-Stevens Fishery Conservation and Management Act, provided the public has been notified of the Council's intent to take-action to address the emergency.

Special Accommodations

These meetings are physically accessible to people with disabilities. Requests for sign language interpretation or other auxiliary aid should be directed to Kathy Pereira, (813) 348-1630, at least 5 days prior to the meeting date.

Authority: 16 U.S.C. 1801 et seq.

Dated: April 15, 2024.
Rey Israel Marquez,
Acting Deputy Director, Office of Sustainable Fisheries, National Marine Fisheries Service.

[FR Doc. 2024-08323 Filed 4-17-24; 8:45 am]

BILLING CODE 3510-22-P